DEPARTMENT OF THE INTERIOR

Minerals Management Service

Outer Continental Shelf (OCS) Western Gulf of Mexico (GOM) Oil and Gas Lease Sale 196

AGENCY: Minerals Management Service (MMS), Interior.

ACTION: Notice regarding Sale 196.

SUMMARY: On June 30, 2005, the Director of MMS signed the Final Notice of Sale for Sale 196, and on July 7, 2005, the FNOS was published in the Federal Register at 70 FR 39329. This notice informs potential bidders that the Energy Policy Act of 2005, signed by the President on August 8, 2005, requires that royalty suspension provisions contained in the Energy Policy Act must be used for OCS lease sales occurring during the five-year period beginning on the date of its enactment. Therefore, deepwater royalty suspension volume provisions contained in the FNOS 196 are superseded in part by provisions in the Energy Policy Act of 2005.

DATES: Public bid reading will begin at 9 a.m., Wednesday, August 17, 2005, in the Hyatt Regency Conference Center (Cabildo Rooms), 500 Poydras Plaza, New Orleans, Louisiana. All times referred to in this document are local New Orleans times, unless otherwise specified.

ADDRESSES: Bidders can obtain a revised Royalty Suspension Provisions document and related revised documents regarding the new deepwater royalty suspension volumes, including a map of lease terms and economic conditions and a list of blocks available for leasing, for Sale 196 from the MMS Gulf of Mexico Region Public Information Unit, 1201 Elmwood Park Boulevard, New Orleans, Louisiana 70123-2394, (504) 736-2519 or (800) 200-GULF, or via the MMS Internet Web site at http://www.mms.gov.

SUPPLEMENTARY INFORMATION: The document entitled “Royalty Suspension Provisions, Lease Sale 196, Final,” cited in the FNOS 196 specifies royalty suspension volumes of 12 million barrels of oil equivalent (BOE) for deepwater leases located in water depths of 1,600 meters or deeper. Paragraph (b) of Subtitle E, Section 345 of the Energy Policy Act of 2005, entitled “Royalty Relief for Deep Water Production,” eliminates the 1,600 meters or deeper category of royalty relief and establishes two new royalty suspension volume categories: 12 million BOE for leases located in water depths of 1,600 meters to 2,000 meters, and 16 million BOE for leases located in water depths greater than 2,000 meters. These new royalty suspension volumes will be applied to applicable leases issued as a result of Sale 196, and bidders should take these Congressionally established suspension volumes into account in preparing their bids. All other provisions of the sale, including price thresholds for these new categories of deepwater royalty suspensions, remain the same as stated in the FNOS 196.

Statutes and Regulations: Each lease issued in this lease sale is subject to the OCS Lands Act of August 7, 1953, 67 Stat. 462; 43 U.S.C. 1331 et seq., as amended (92 Stat. 629), hereinafter called “the Act”; all regulations issued pursuant to the Act and in existence upon the effective date of the lease; all regulations issued pursuant to the statute in the future which provide for the prevention of waste and conservation of the natural resources of the OCS and the protection of correlative rights therein; and all other applicable statutes and regulations including the Energy Policy Act of 2005.

Dated: August 8, 2005.
R.M. “Johnnie” Burton,
Director, Minerals Management Service.

[FR Doc. 05-16054 Filed 8-11-05; 8:45 am]

BILLING CODE 4310-MR-P